DEPARTMENT OF TRANSPORTATION

Federal Aviation Administration

Final Written Re-Evaluation for Environmental Impact Statement: Sikorsky Memorial Airport, Stratford, CT

AGENCY: Federal Aviation Administration (FAA), DOT.

ACTION: Notice of availability.

SUMMARY: The FAA is issuing this notice to advise the public that a Writetn Re-Evaluation of a Final Environmental Impact Statement (FEIS) has been completed for Sikorsky Memorial Airport in Stratford, Connecticut.

ADDRESSES: The Written Re-Evaluation document is available for review during normal business hours at the following locations:

FAA New England Region, 12 New England Executive Park, Burlington, MA, 781-238-7613.

Stratford Public Library, 2203 Main St., Stratford, CT, 203-385-4161.

Bridgeport Public Library, Borroughs Bldg., 925 Broad St., Bridegport, CT, 203-576-7777.

Igor Sikorsky Memorial Airport, Administration Bldg., 1000 Great Meadow Dr., Stratford, CT, 203-576-8162.

FOR FURTHER INFORMATION CONTACT: Richard Doucette, Environmental Program Manager, Federal Aviation Administration New England, 12 New England Executive Park, Burlington, MA. (781) 238-7613.

SUPPLEMENTARY INFORMATION: In October 1999 the FAA issued a Record of Decision (ROD) approving actions associated with proposed improvments to the Sikorsky Memorial Airport, Stratford, Connecticut. That ROD was based on information and analysis contained in a Final Environmental Impact Statement (FEIS) that the FAA issued in May 1999. No action was taken on the October 1999 ROD. Recently, the FAA evaluated the suitability of applying the May 1999 FEIS to a substantially similar project at Sikorsky Memorial Airport involving Runway Safety Areas and other airfield improvements. This Written Re-Evaluation documents the FAA's assessment of the suitability of using the information and analysis in the May 1999 FEIS for the current project.

A Record of Decision is anticipated, no sooner than 30 days from this notice.

Issued in Burlington, Massachusetts, on July 1, 2011.
Michel Hovan,
Acting Manager, Airports Division.

[FR Doc. 2011-18196 Filed 7-18-11; 8:45 am]

BILLING CODE 4910-13-P